DEPARTMENT OF COMMERCE

International Trade Administration

[C-570-980]

Crystalline Silicon Photovoltaic Cells, Whether or Not Assembled Into Modules, From the People's Republic of China: Final Results of Countervailing Duty Administrative Review; 2017

AGENCY: Enforcement and Compliance, International Trade Administration, Department of Commerce.

SUMMARY: The Department of Commerce (Commerce) determines that countervailable subsidies are being provided to producers/exporters of crystalline silicon photovoltaic cells, whether or not assembled into modules (solar cells), from the People's Republic of China (China) during the period of review (POR) January 1, 2017 through December 31, 2017.

DATES: Applicable December 9, 2020.

FOR FURTHER INFORMATION CONTACT: Gene H. Calvert, AD/CVD Operations, Office VII, Enforcement and Compliance, International Trade Administration, U.S. Department of Commerce, 1401 Constitution Avenue NW, Washington, DC 20230; telephone (202) 482-3586.

SUPPLEMENTARY INFORMATION:

Background

Commerce published the Preliminary Results of this administrative review in the Federal Register on February 11, 2020.¹ We invited interested parties to comment on the Preliminary Results. Between March 12, 2020 and October 26, 2020, we received timely case briefs from the following interested parties: Trina Solar Co., Ltd. (formerly known as Changzhou Trina Solar Energy Co., Ltd.); the Government of China (GOC); BYD Shangluo Industrial Co., Ltd. and Shanghai BYD Co., Ltd. (the BYD Companies); JA Solar Technology Yangzhou, Co., Ltd. (JA Solar); Risen Energy Co., Ltd. (Risen Energy); and SunPower Manufacturing Oregon LLC. On November 2, 2020, we received timely rebuttal briefs from the following companies: JA Solar; the BYD Companies; and Risen Energy.

¹ See Crystalline Silicon Photovoltaic Cells, Whether or Not Assembled Into Modules, from the People's Republic of China: Preliminary Results of Countervailing Duty Administrative Review and Rescission of Review, in Part; 2017, 85 FR 7727 (February 11, 2020) (Preliminary Results), and accompanying Preliminary Decision Memorandum (PDM).

On April 24, 2020, Commerce tolled the due date for these final results by 50 days.² On July 21, 2020, Commerce tolled the due date for these final results an additional 60 days.³ On September 25, 2020, Commerce extended the deadline for issuing the final results of this review by 60 days, until November 27, 2020.⁴

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

⁴ See Memorandum, “Administrative Review of the Countervailing Duty Order on Crystalline Silicon Photovoltaic Cells, Whether or Not Assembled Into Modules, from the People's Republic of China: Extension of Deadline for the Final Results of the Administrative Review,” dated September 25, 2020.

Scope of the Order

The products covered by the order are solar cells from China. A full description of the scope of the order is contained in the Issues and Decision Memorandum.⁵

⁵ See Memorandum, “Issues and Decision Memorandum for the Final Results of the Administrative Review of the Countervailing Duty Order on Crystalline Silicon Photovoltaic Cells, Whether or Not Assembled Into Modules, from the People's Republic of China; 2017,” dated concurrently with, and hereby adopted by, this notice (Issues and Decision Memorandum).

Analysis of Comments Received

All issues raised in interested parties' briefs are addressed in the Issues and Decision Memorandum accompanying this notice. A list of the issues raised by interested parties and to which Commerce responded in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/. The signed and electronic versions of the Issues and Decision Memorandum are identical in content.

Changes Since the Preliminary Results

Based on comments in case briefs and record evidence, Commerce made certain changes from the Preliminary Results, with regard to the ocean freight benchmark used to measure the remuneration of inputs for less than adequate remuneration, and corrected various ministerial errors for the respondent companies, JA Solar and Risen Energy. These changes are explained in the Issues and Decision Memorandum.

Methodology

Commerce conducted this administrative review in accordance with section 751(a)(1)(A) of the Tariff Act of 1930, as amended (the Act). For each subsidy program found to be countervailable, Commerce finds that there is a subsidy, i.e., a financial contribution from a government or public entity that gives rise to a benefit to the recipient, and that the subsidy is specific.⁶ For a full description of the methodology underlying all of Commerce's conclusions, including any determination that relied upon the use of adverse facts available pursuant to section 776(a) and (b) of the Act, see the Issues and Decision Memorandum.

⁶ See sections 771(5)(B) and (D) of the Act regarding financial contribution; section 771(5)(E) of the Act regarding benefit; and section 771(5A) of the Act regarding specificity.

Final Results of Administrative Review

In accordance with 19 CFR 351.221(b)(5), Commerce calculated a countervailable subsidy rate for the mandatory company respondents, JA Solar and Risen Energy. For the non-selected companies subject to this review,⁷ Commerce followed its practice, which is to base the subsidy rates on a weighted average of the subsidy rates calculated for those companies selected for individual examination, excluding rates of zero, de minimis, or rates determined entirely based on adverse facts available.⁸ To this end, Commerce calculated a rate by weight-averaging the calculated subsidy rates of JA Solar and Risen Energy using their publicly-available sales data for exports of subject merchandise to the United States during the POR. Commerce finds the countervailable subsidy rates for the producers/exporters under review to be as follows:

⁷ See Appendix II.

⁸ See, e.g., Certain Pasta from Italy: Preliminary Results of the 13th (2008) Countervailing Duty Administrative Review, 75 FR 18806, 18811 (April 13, 2010), unchanged in Certain Pasta from Italy: Final Results of the 13th (2008) Countervailing Duty Administrative Review, 75 FR 37386 (June 29, 2010).

Company | Subsidy rate (ad valorem) (percent)
JA Solar Technology Yangzhou, Co., Ltd. (JA Solar) ⁹ | 14.86
Risen Energy Co., Ltd. (Risen Energy) ¹⁰ | 11.68
Non-Selected Companies Under Review ¹¹ | 12.67

Disclosure

Commerce will disclose to the parties in this proceeding the calculations performed for these final results within five days of the date of publication of this notice in the Federal Register.¹²

⁹ As discussed in the Preliminary Results PDM, JA Solar is cross-owned with JA (Hefei) Renewable Energy Co., Ltd.; Hefei JA Solar Technology Co., Ltd.; JA Solar Investment China Co., Ltd.; JA Solar Technology Yangzhou Co., Ltd.; Jing Hai Yang Semiconductor Material (Donghai) Co., Ltd.; Donghai JingAo The Solar Energy Science and Technology Co., Ltd.; Solar Silicon Valley Electronic Science and Technology Co., Ltd.; Jingwei Electronic Materials Co., Ltd.; Hebei Yujing Electronic Science and Technology Co., Ltd.; Solar Silicon Peak Electronic Science and Technology Co., Ltd.; Beijing Jinfeng Investment Co., Ltd.; Jinglong Technology Holdings Co., Ltd.; JingAo Solar Co., Ltd.; Ningjin Songgong Electronic Materials Co., Ltd.; Jinglong Industry and Commerce Group Co., Ltd.; Ningjin Guiguang Electronic Investment Co., Ltd.; Ningjin County Jingyuan New Energy Investment Co., Ltd.; Hebei Jinglong Fine Chemicals Co., Ltd.; Ningjin Sunshine New Energy Co., Ltd.; Hebei Jinglong Sunshine Equipment Co., Ltd.; Hebei Jingle Optoelectronic Technology Co., Ltd.; Hebei Ningjin Songgong Semiconductor Co., Ltd.; Ningjin Jingxing Electronic Material Co., Ltd.; Ningjin Jingfeng Electronic Materials Co., Ltd.; Ningjin Saimei Ganglong Electronic Materials Co., Ltd.; Hebei Ningtong Electronic Materials Co., Ltd.; Ningjin Changlong Electronic Materials Manufacturing Co. Ltd.; JA Solar (Xingtai) Co., Ltd.; Xingtai Jinglong Electronic Material Co., Ltd.; Xingtai Jinglong PV Materials Co., Ltd.; Taicang Juren PV Material Co., Ltd.; JA PV Technology Co., Ltd.; Ningjin Longxin Investment Co., Ltd.; and Ningjin Jinglong PV Industry Investment Co., Ltd.

¹⁰ As discussed in the Preliminary Results PDM, Risen Energy is cross-owned with Changzhou Sveck Photovoltaic New Material Co., Ltd.; Changzhou Sveck New Material Technology Co., Ltd.; JiuJiang Shengchao Xinye Technology Co., Ltd.; Jiangsu Sveck New Material Co., Ltd.; Ninghai Risen Energy Power Development Co., Ltd.; Risen (Luoyang) New Energy Co., Ltd.; Risen (Ningbo) Electric Power Development Co., Ltd.; Risen (Wuhai) New Energy Co., Ltd.; Zhejiang Boxin Investment Co., Ltd.; and Zhejiang Twinsel Electronic Technology Co., Ltd.

¹¹ See Appendix II.

¹² See 19 CFR 351.224(b).

Assessment Rates

Consistent with 19 CFR 351.212(b)(2), Commerce intends to issue assessment instructions to U.S. Customs and Border Protection (CBP) 15 days after the publication of these final results of review, to liquidate shipments of subject merchandise entered, or withdrawn from warehouse, for consumption, on or after January 1, 2017 through December 31, 2017, at the ad valorem rates listed above.

Cash Deposit Instructions

In accordance with section 751(a)(1) of the Act, Commerce intends to instruct CBP to collect cash deposits of estimated countervailing duties in the amounts shown for each of the respective companies listed above. These cash deposits, when imposed, shall remain in effect until further notice.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing and publishing these results in accordance with sections 751(a)(1) and 777(i)(1) of the Act.

Dated: November 27, 2020.
Jeffrey I. Kessler,
Assistant Secretary for Enforcement and Compliance.

Appendix I

List of Topics Discussed in the Issues and Decision Memorandum

I. Summary

II. Background

III. List of Comments from Interested Parties

IV. Scope of the Order

V. Changes Since the Preliminary Results

VI. Subsidies Valuation Information

A. Allocation Period

B. Cross-Ownership and Attribution of Subsidies

C. Denominators

D. Benchmarks and Discount Rates

VII. Use of Facts Available and Adverse Inferences

VIII. Programs Determined to be Countervailable

IX. Programs Determined to be Not Used or Not To Confer a Measurable Benefit During the POR

X. Ad Valorem Rate for Non-Selected Companies Under Review

XI. Analysis of Comments

Comment 1: Whether Commerce Appropriately Applied the Use of Adverse Facts Available (AFA) Regarding Responses from the GOC

Comment 2: Whether Input Suppliers That Are Wholly Owned by Individuals Are “Government Authorities”

Comment 3: Whether Commerce Should Apply AFA to the Export Buyer's Credit Program (EBCP)

Comment 4: The Provision of Electricity

Comment 5: Whether the Income Tax Deduction for Research and Development (R&D) Expenses is Specific

Comment 6: Whether Commerce Should Revise the Benchmark for the Provision of Aluminum Extrusions

Comment 7: The Benchmark for the Provision of Solar Glass

Comment 8: The Benchmark for the Provision of Land

Comment 9: The Benchmark for Ocean Freight

Comment 10: Commerce's Use of “Zeroing” in Benefit Calculations

Comment 11: Whether Commerce Should Correct Errors to Sales Denominators and the Attribution of Subsidies

XII. Recommendation

Appendix II

Non-Selected Companies Under Review

1. Anji DaSol Solar Energy Science & Technology Co., Ltd.

2. Baoding Jiasheng Photovoltaic Technology Co., Ltd.

3. Baoding Tianwei Yingli New Energy Resources Co., Ltd.

4. Beijing Tianneng Yingli New Energy Resources Co., Ltd.

5. BYD (Shangluo) Industrial Co., Ltd.

6. Canadian Solar (USA) Inc.

7. Canadian Solar Inc.

8. Canadian Solar International Ltd.

9. Canadian Solar Manufacturing (Changshu) Inc.

10. Canadian Solar Manufacturing (Luoyang) Inc.

11. Changzhou Trina Solar Yabang Energy Co., Ltd.

12. CSI Cells Co., Ltd.

13. CSI-GCL Solar Manufacturing (Yancheng) Co., Ltd.

14. De-Tech Trading Limited HK

15. Dongguan Sunworth Solar Energy Co., Ltd.

16. Eoplly New Energy Technology Co., Ltd.

17. ERA Solar Co., Ltd.

18. ET Solar Energy Limited

19. Hainan Yingli New Energy Resources Co., Ltd.

20. Hangzhou Sunny Energy Science and Technology Co., Ltd.

21. Hengdian Group DMEGC Magnetics Co., Ltd.

22. Hengshui Yingli New Energy Resources Co., Ltd.

23. Hubei Trina Solar Energy Co., Ltd.

24. JA Technology Yangzhou Co., Ltd.

25. Jiangsu High Hope Int'l Group

26. Jiawei Solarchina (Shenzhen) Co., Ltd.

27. Jiawei Solarchina Co., Ltd.

28. Jinko Solar (U.S.) Inc.

29. Jinko Solar Co., Ltd.

30. Jinko Solar Import and Export Co., Ltd.

31. Jinko Solar International Limited

32. LERRI Solar Technology Co., Ltd.

33. Lightway Green New Energy Co., Ltd.

34. Lixian Yingli New Energy Resources Co., Ltd.

35. Luoyang Suntech Power Co., Ltd.

36. Nice Sun PV Co., Ltd.

37. Ningbo ETDZ Holdings, Ltd.

38. Ningbo Qixin Solar Electrical Appliance Co., Ltd.

39. Shanghai BYD Co., Ltd.

40. Shenzhen Sungold Solar Co., Ltd.

41. Shenzhen Yingli New Energy Resources Co., Ltd.

42. Sumec Hardware & Tools Co., Ltd.

43. Sunpreme Solar Technology (Jiaxing) Co., Ltd.

44. Systemes Versilis, Inc.

45. Taizhou BD Trade Co., Ltd.

46. TenKsolar (Shanghai) Co., Ltd.

47. Tianjin Yingli New Energy Resources Co., Ltd.

48. Tianneng Yingli New Energy Resources Co., Ltd.

49. Toenergy Technology Hangzhou Co., Ltd.

50. Trina Solar (Changzhou) Science & Technology Co., Ltd.

51. Trina Solar Energy Co., Ltd. (formerly known as Changzhou Trina Solar Energy Co., Ltd.)

52. Turpan Trina Solar Energy Co., Ltd.

53. Wuxi Suntech Power Co., Ltd.

54. Wuxi Tianran Photovoltaic Co., Ltd.

55. Yancheng Trina Solar Energy Technology Co., Ltd.

56. Yingli Energy (China) Co., Ltd.

57. Yingli Green Energy Holding Company Limited

58. Yingli Green Energy International Trading Company Limited

59. Zhejiang ERA Solar Technology Co., Ltd.

60. Zhejiang Jinko Solar Co., Ltd.

[FR Doc. 2020-27037 Filed 12-8-20; 8:45 am]

BILLING CODE 3510-DS-P